FEDERAL COMMUNICATIONS COMMISSION

47 CFR Parts 1 and 73

[WT Docket No. 17-79 and WC Docket No. 17-84; Report No. 3109]

Petition for Reconsideration of Action in Rulemaking Proceeding

AGENCY: Federal Communications Commission.

ACTION: Petition for Reconsideration.

SUMMARY: A Petition for Reconsideration (Petition) has been filed in the Commission's proceeding by Alan S. Tilles, on behalf of The City of New Orleans, Louisiana; Virginia Municipal League; Kentucky League of Cities; Mississippi Municipal League; Pennsylvania Municipal League; Alabama League of Municipalities; Arkansas Municipal League; Nevada League of Cities and Municipalities; Town of Middleburg, Virginia; Jefferson Parish, Louisiana; and Government Wireless Technology & Communications Association.

DATES: Oppositions to the Petition must be filed on or before February 22, 2019. Replies to an opposition must be filed on or before March 4, 2019.

ADDRESSES: Federal Communications Commission, 445 12th Street SW, Washington, DC 20554.

FOR FURTHER INFORMATION CONTACT: Donald Johnson, Competition and Infrastructure Policy Division, Wireless Telecommunications Bureau, at (202) 418-7444, email: Donald.Johnson@fcc.gov.

SUPPLEMENTARY IN0FORMATION: This is a summary of the Commission's document, Report No. 3109, released January 2, 2019. The full text of the Petition is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5.U.S.C. because no rules are being adopted by the Commission.

Subject: Accelerating Wireless Broadband Deployment by Removing Barriers to Infrastructure Investment, FCC 18-133, published at 83 FR 51867, October 15, 2018, in WT Docket No. 17-79; WC Docket No. 17-84. This document is being published pursuant to 47 CFR 1.429(e). See also 47 CFR 1.4(b)(1) and 1.429(f), (g).

Number of Petitions Filed: 1.

Federal Communications Commission.
Katura Jackson,
Federal Register Liaison Officer, Office of the Secretary.

[FR Doc. 2019-01479 Filed 2-6-19; 8:45 am]

BILLING CODE 6712-01-P